DEPARTMENT OF AGRICULTURE

Submission for OMB Review; Comment Request

December 9, 2009.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Plant Protection and Quarantine; Official Control Program.

OMB Control Number: 0579-NEW.

Summary of Collection: Under the Plant Protection Act (7 U.S.C. 7701-7772), the Secretary of Agriculture is authorized to prohibit or restrict the importation, entry, or movement of plants and plant pests to prevent the introduction of plant pests into the United States or their dissemination within the United States. The Animal and Plant Health Inspection Service (APHIS), Plant Protection and Quarantine (PPQ) program has established the following procedures for State to petition the Agency to recognize State-level plant pest regulations and associated action taken as meeting the international criteria for Official Control. The International Plant Protection Convention (IPPC) defines “Official Control” as the active enforcement of mandatory phytosanitary regulations and the application of mandatory phytosanitary procedures with the objective of eradication or containment of quarantine pests or for the management of regulated non-quarantine pests.

Need and Use of the Information: To obtain a program's designation as an Official Control Program, States must petition APHIS-PPA to recognize their established or proposed programs to eradicate or contain a regulated plant pest. The State should provide the following supporting information and documentation for Quarantine Pests of Concern: (1) Evidence the pest does not exist in the State; (2) Evidence that the pest could become established or widespread in the State; (3) Evidence that the pest could cause economic and/or environmental harm in the State; (4) A description of the State actions used to maintain and monitor for pest freedom upon eradication; and (5) A copy of the State or local quarantine regulations that provide enforcement of the appropriate programs. The State should provide the following supporting information and documentation for Regulated Non-Quarantine Pests: (1) Evidence that a particular pest could cause significant harm to plant for planting if the pest was not managed through a certification program; (2) Evidence the State has regulatory authority and a program established to manage the levels of the pest in plants for planting that are the hosts for the pest; and (3) A description of State actions to manage the level and or producers' management of pests in the plants for planting where the pest is maintained below a level that can affect production, health, or marketability of plants for planting. Without the information, APHIS would be less effective in establishing procedures that are used to contain regulated plant pests within the United States.

Description of Respondents: State, Local or Tribal Government.

Number of Respondents: 53.

Frequency of Responses: Reporting: On occasion.

Total Burden Hours: 106,000.

Ruth Brown,
Departmental Information Collection Clearance Officer.

[FR Doc. E9-29728 Filed 12-14-09; 8:45 am]

BILLING CODE 3410-34-P